DEPARTMENT OF COMMERCE

National Oceanic and Atmospheric Administration (NOAA)

Public Meeting of the Ocean Exploration Advisory Board

AGENCY: Office of Oceanic and Atmospheric Research (OAR), National Oceanic and Atmospheric Administration (NOAA), Department of Commerce (DOC).

ACTION: Notice of public meeting.

SUMMARY: This notice sets forth the schedule and proposed agenda for a meeting of the Ocean Exploration Advisory Board (OEAB). OEAB members will discuss and provide advice on the Federal ocean exploration program, with a particular emphasis on the topics identified in the section on Matters To Be Considered.

DATES: The announced meeting is scheduled for Thursday, February 29, 2024 from 12 p.m.-4 p.m. (EST).

ADDRESSES: This will be a virtual meeting. Information about how to participate or observe virtually will be posted to the OEAB website at https://oeab.noaa.gov/.

FOR FURTHER INFORMATION CONTACT: Mr. David Turner, Designated Federal Officer, Ocean Exploration Advisory Board, National Oceanic and Atmospheric Administration, David.Turner@NOAA.gov or (859) 327-9661.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs, and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Matters To Be Considered: The OEAB will discuss finalizing recommendations they have been developing on ways to take ocean exploration to new heights with emphasis on need for creativity, challenging existing thinking, and pushing boundaries within the ocean exploration field. The board will discuss and deliberate on these topics. The agenda and other meeting materials will be made available on the OEAB website at https://oeab.noaa.gov/.

Status: The meeting will be open to the public via remote access. Please check the agenda on the OEAB website to confirm the public comment period schedule.

The OEAB expects that public statements at its meetings will not be repetitive of previously submitted verbal or written statements. In general, each individual or group making a verbal presentation will be limited to three minutes. The Designated Federal Officer must receive written comments by February 20, 2024, to provide sufficient time for OEAB review. Written comments received after February 20, 2024, will be distributed to the OEAB but may not be reviewed prior to the meeting date. Comments should be submitted to Designated Federal Officer David.Turner@NOAA.gov.

Special Accomodations: Requests for sign language interpretation or other auxiliary aids should be directed to the Designated Federal Officer by February 20, 2024.

David Holst,
Chief Financial and Administrative Officer, Office of Oceanic and Atmospheric Research, National Oceanic and Atmospheric Administration.

[FR Doc. 2024-03006 Filed 2-13-24; 8:45 am]

BILLING CODE 3510-KA-P